DEPARTMENT OF COMMERCE

International Trade Administration

[A-428-827]

Notice of Final Determination of Sales at Less Than Fair Value: Stainless Steel Butt-Weld Pipe Fittings From Germany

AGENCY: Import Administration, International Trade Administration, Department of Commerce.

EFFECTIVE DATE: October 16, 2000.

FOR FURTHER INFORMATION CONTACT: Carrie Blozy, Import Administration, International Trade Administration, U.S. Department of Commerce, 14th Street and Constitution Avenue, NW., Washington, DC 20230; telephone: (202) 482-0165.

The Applicable Statute

Unless otherwise indicated, all citations to the statute are references to the provisions effective January 1, 1995, the effective date of the amendments made to the Tariff Act of 1930 (the Act) by the Uruguay Round Agreements Act (URAA). In addition, unless otherwise indicated, all citations to the Department's regulations are to the regulations at 19 CFR part 351 (April 1999).

Final Determination

We determine that stainless steel butt-weld pipe fittings from Germany are being, or are likely to be, sold in the United States at less than fair value (“LTFV”), as provided in section 733 of the Act. The estimated margins of sales at LTFV are shown in the “Continuation of Suspension of Liquidation” section of this notice.

Case History

The preliminary determination in this investigation was published on August 2, 2000. See Notice of Preliminary Determination of Sales at Less Than Fair Value: Stainless Steel Butt-Weld Pipe Fittings from Germany, 65 FR 47384 (August 2, 2000) (“Preliminary Determination”). No interested parties have provided comments on the Preliminary Determination and no request for a hearing has been received by the Department.

Period of Investigation

The period of investigation is October 1, 1998 through September 30, 1999.

Scope of Investigation

For purposes of this investigation, the product covered is certain stainless steel butt-weld pipe fittings. Certain stainless steel butt-weld pipe fittings are under 14 inches in outside diameter (based on nominal pipe size), whether finished or unfinished. The product encompasses all grades of stainless steel and “commodity” and “specialty” fittings. Specifically excluded from the definition are threaded, grooved, and bolted fittings, and fittings made from any material other than stainless steel.

The fittings subject to this investigation are generally designated under specification ASTM A403/A403M, the standard specification for Wrought Austenitic Stainless Steel Piping Fittings, or its foreign equivalents (e.g., DIN or JIS specifications). This specification covers two general classes of fittings, WP and CR, of wrought austenitic stainless steel fittings of seamless and welded construction covered by the latest revision of ANSI B16.9, ANSI B16.11, and ANSI B16.28. Pipe fittings manufactured to specification ASTM A774, or its foreign equivalents, are also covered by this investigation.

This investigation does not apply to cast fittings. Cast austenitic stainless steel pipe fittings are covered by specifications A351/A351M, A743/743M, and A744/A744M.

The stainless steel butt-weld pipe fittings subject to this investigation are currently classifiable under subheading 7307.23.0000 of the Harmonized Tariff Schedule of the United States (HTSUS). Although the HTSUS subheadings are provided for convenience and customs purposes, the written description of the scope of this investigation is dispositive.

Facts Available

In the Preliminary Determination, the Department based the margins for Hage Fittings GmbH (“Hage Fittings”) and Nirobo Metalverarbeitungs GmbH (“Nirobo Metalverarbeitungs”) on facts otherwise available under sections 776(a)(2)(A) and (C) of the Act because Hage Fittings and Nirobo Metalverarbeitungs failed to respond to our questionnaires, thus significantly impeding the investigation, and because subsection 782(d) of the Act therefore did not apply. See Preliminary Determination at 65 FR 47385. Also, in the Preliminary Determination, the Department based the margin for Wilh. Schulz GmbH (“Schulz”) on facts otherwise available under sections 776(a)(2)(A) and (C) of the Act because the Department had no data on the record for Schulz upon which to base its margin calculation since the Department returned all of Schulz's business proprietary information at Schulz's request. Id.

Section 776(b) of the Act provides that, in selecting from among the facts available, the Department may employ adverse inferences when an interested party has failed to cooperate by not acting to the best of its ability to comply with requests for information. See also “Statement of Administrative Action” accompanying the URAA, H.R. Rep. No. 103-316, 870 (1994) (“SAA”). Based on the failure of Hage Fittings and Nirobo Metalverarbeitungs to respond to the Department's antidumping questionnaire and Schulz's subsequent withdrawal of its business proprietary data, we have determined that Hage Fittings, Nirobo Metalverarbeitungs, and Schulz have not acted to the best of their ability to comply with the Department's information requests.

Therefore, pursuant to 776(b) of the Act, we used an adverse inference in selecting a margin from the facts available. As adverse facts available, the Department has applied a margin of 76.24 percent, the highest margin alleged in the petition. As discussed in the Preliminary Determination, the Department has, to the extent practicable, corroborated the information used as adverse facts available. Id., at 65 FR 47385-86. Since then, no interested parties have provided comments on the Preliminary Determination and no request for a hearing has been received by the Department. Therefore, we are continuing to use as adverse facts available the highest margin alleged by petitioners.

Critical Circumstances

No comments were received regarding the Department's preliminary critical circumstances determination, and the Department has not made any changes to this determination. For the reasons given in the Preliminary Determination, the Department continues to find that critical circumstances exist with respect to stainless steel butt-weld pipe fittings imported from Hage Fittings, Nirobo Metalverarbeitungs, and Schulz, in accordance with section 733(e)(1) of the Act. Id., at 65 FR 47386. As set forth in our Preliminary Determination, because the massive imports criterion necessary to find critical circumstances has not been met with respect to firms other than Hage Fittings, Nirobo Metalverarbeitungs, and Schulz, the Department continues to find, for the purposes of this final determination, that critical circumstances do not exist for imports of stainless steel butt-weld pipe fittings for the “all others” category in this case.

The All-Others Rate

No interested parties have filed case briefs or rebuttal briefs on this issue. Accordingly, the Department is continuing to base the all-others rate on a weighted-average of all the margins alleged in the petition. As a result, the all-others rate is 51.34 percent.

Continuation of Suspension of Liquidation

In accordance with section 735(c)(1)(B) of the Act for Hage Fittings, Nirobo Metalverarbeitungs and Schulz we are directing the Customs Service to continue to suspend liquidation of all entries of subject merchandise from Germany that are entered, or withdrawn from warehouse, for consumption on or after the date 90 days prior date of publication of the Preliminary Determination in the Federal Register. For all other companies, we are directing the Customs Service to continue suspend liquidation of entries of subject merchandise from Germany that are entered, or withdrawn from warehouse, for consumption on or after August 2, 2000 (the date of publication of the Preliminary Determination in the Federal Register). We will instruct the Customs Service to require a cash deposit or the posting of a bond equal to the weighted-average amount by which the normal value exceeds the U.S. price, as indicated in the chart below. These suspension-of-liquidation instructions will remain in effect until further notice. The weighted-average dumping margins are as follows:

Exporter/manufacturer | Weighted- average margin (percent)
Hage Fittings | 76.24
Nirobo Metalverarbeitungs | 76.24
Schulz | 76.24
All Others | 51.34

ITC Notification

In accordance with section 735(d) of the Act, we have notified the International Trade Commission (“ITC”) of our determination. As our final determination is affirmative, the ITC will, within 45 days, determine whether these imports are materially injuring, or threaten material injury to, the U.S. industry. If the ITC determines that material injury, or threat of material injury does not exist, the proceeding will be terminated and all securities posted will be refunded or canceled. If the ITC determines that such injury does exist, the Department will issue an antidumping duty order directing Customs officials to assess antidumping duties on all imports of the subject merchandise entered for consumption on or after the effective date of the suspension of liquidation.

This determination is issued and published in accordance with sections 735(d) and 777(i)(1) of the Act.

Dated: October 10, 2000.
Troy H. Cribb,
Acting Assistant Secretary for Import Administration.

[FR Doc. 00-26520 Filed 10-13-00; 8:45 am]

BILLING CODE 3510-DS-P